DEPARTMENT OF JUSTICE

Notice of Lodging of Proposed Partial Consent Decree Under the Clean Water Act

Under 28 CFR 50.7, notice is hereby given that on June 25, 2003, a proposed Partial Consent Decree in United States v. District of Columbia Water and Sewer Authority (“WASA”), et al., Civil Action No. 1:02-02511 (TFH) and in Anacostia Watershed Society v. District of Columbia Water and Sewer Authority, et al.,Civil Action No. 1:00CV00183 (TFH), was lodged with the United States District Court for the District of Columbia.

The two actions allege violations by the defendants of provisions of the Clean Water Act that pertain to overflows from the combined sewer system in the District of Columbia. Both complaints include a claim that the defendants failed to implement certain interim measures, termed “Nine Minimum Controls,” timely and adequately. The proposed partial consent decree resolves that specific claim and requires defendant WASA to perform a number of specific projects, including refurbishment or rehabilitation of its major pump stations and enhanced notice to the public of CSO events.

The partial consent decree also resolves the Plaintiffs' claims for civil penalties through the date of lodging of the decree. Under the decree, WASA will pay a civil penalty of $250,00 to the United States Treasury and construct and operate Supplemental Environmental Projects (“SEPs”) valued at $1.7 million. The SEPs will consist of “low impact development” projects, which includes various technologies such as vegetation, rain barrels, tree canopies, and drainage trenches that are designed to detain and store wet weather run-off to promote infiltration to the ground and evaporation. In addition, WASA will pay $300,000 to the Chesapeake Bay Foundation for the construction of “roof gardens,” a kind of low impact development consisting of vegetation on rooftops.

The Department of Justice will receive for a period of thirty (30) days from the date of this publication comments relating to the proposed Partial Consent Decree. Comments should be addressed to the Assistant Attorney General, Environment and Natural Resources Division, P.O. Box 7611, U.S. Department of Justice, Washington, DC 20044-7611, and should refer to United States v. District of Columbia Water and Sewer Authority (“WASA”), et al., Civil Action No. 1:02-02511 (TFH), DOJ # 90-5-1-1-07137.

The Partial Consent Decree may be examined at the Office of the United States Attorney, c/o Lydia Griggsby, 555 Fourth Street NW., Washington, DC 20001, and at U.S. EPA Region III, 1650 Arch Street, Philadelphia, PA 19103-2029.

During the public comment period, the Partial Consent Decree may also be examined on the following Department of Justice Web site, http://www.usdoj.gov/enrd/open.html. A copy of the Partial Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $19.50 payable to the U.S. Treasury. In requesting a copy exclusive of exhibits, please enclose a check in the amount of $15.25 payable to the U.S. Treasury.

Robert Brook,
Assistant Chief, Environmental Enforcement Section, Environment and Natural Resources Division.

[FR Doc. 03-17414 Filed 7-9-03; 8:45 am]

BILLING CODE 4410-15-M